FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

US Rich Long, Inc., 10932 Schmidt Road, #H, El Monte, CA 91733, Officers: George Sun, President, (Qualifying Individual), Gloria You, Director

Florida Trade Consolidators Inc., 6123 NW 72nd Avenue, Miami, FL 33166, Officer: Samir Assad, President, (Qualifying Individual)

DLS Logistics, Inc., 1026 Edwards Road, Burlingame, CA 94010, Officers: Denis I. Cheng, President, (Qualifying Individual), Lawrence Chang, Vice President

ADCOM Express Inc. dba ADCOM Worldwide Inc., 7424 W. 78th Street, Edina, MN 55439, Officers: Douglas Bramer, Vice President, (Qualifying Individual), Robert Friedman, CEO

America Keyun Int'l Logistics, Inc., 939 S. Atlantic Blvd., #209A, Monterey Park, CA 91754, Officers: Yan Yu, Secretary, (Qualifying Individual), Li, Ying Jie, President

Non-Vessel Operating Common Carrier and Ocean Freight Forwarder Transportation Intermediary Applicants

KCC Logistics Inc., 2300 E. Higgins Road, Suite #204, Elk Grove Village, IL 60007, Officer: James S. Lee, President, (Qualifying Individual)

Associated Consolidators Express, 1273 Industrial Pkwy, Unit 290, Hayward, CA 94544, Officer: Frank Escalante, Operations Manager, (Qualifying Individual)

American Links Logistics International, Inc., 3591 Highland Drive, San Bruno, CA 94066, Officers: Letty Batacan, Import Manager, (Qualifying Individual), Walfredo M. Enrico, President

7 Seas Shipping, Inc. dba E J Freight Forwarding, Inc., 9060 Telstar Avenue, Suite 220, El Monte, CA 91731, Officer: Liqiu Mai, President, (Qualifying Individual)

Moog International, Inc., 1223 Grove Road, Pittsburgh, PA 15234-2397, Officers: James A. Frye, Vice President, (Qualifying Individual), Ronald P. Moog, President

United Shipping Services, Inc., 2321 Highbury Avenue, #51, Los Angeles, CA 90032, Officers: Rachel Liu, President, (Qualifying Individual), Peng-Xing Liu, Secretary

Ocean Freight Forwarder—Ocean Transportation Intermediary Applicant

Krenz International Inc., 3125 S. 56th Street, Milwaukee, WI 53219, Officer: John F. Krenz, President, (Qualifying Individual)

Dated: January 18, 2002.
Bryant L. VanBrakle,
Secretary.

[FR Doc. 02-1802 Filed 1-23-02; 8:45 am]

BILLING CODE 6730-01-P